DEPARTMENT OF ENERGY

Federal Energy Regulatory Commission

[Docket No. EC02-94-000, et al.]

Cargill-Alliant, LLC, et al.; Electric Rate and Corporate Regulation Filings

July 18, 2002.

The following filings have been made with the Commission. The filings are listed in ascending order within each docket classification.

1. Cargill-Alliant, LLC; Alliant Energy Corporation; Cargill, Incorporated

[Docket No. EC02-94-000]

Take notice that on July 15, 2002, Cargill-Alliant, LLC (Cargill-Alliant), Alliant Energy Corporation (Alliant), and Cargill, Incorporated (Cargill) tendered for filing a joint application for authorization for Alliant to transfer its membership interests in Cargill-Alliant to Cargill.

Comment Date: August 8, 2002.

2. Termo Norte Energia Ltda.

[Docket No. EG02-169-000]

Take notice that on July 16, 2002, Termo Norte Energia Ltda. filed with the Federal Energy Regulatory Commission an application for determination of exempt wholesale generator status pursuant to part 365 of the Federal Energy Regulatory Commission's Regulations.

Applicant, a Brazilian limited liability company, owns power generating facilities in Brazil. These facilities consist of a 345 MW combined cycle electric generating facility and facilities necessary to make wholesale sales of electricity in Brazil.

Comment Date: August 6, 2002.

3. New England Power Pool

[Docket Nos. EL00-83-006 and ER00-2811-006]

Take notice that on July 16, 2002, the New England Power Pool(NEPOOL) Participants Committee tendered for filing with the Federal Energy Regulatory Commission (Commission), its report of compliance with the Commission's June 17, 2002 order in the above-captioned dockets. This report of compliance identifies whether any issues raised in NEPOOL's August 25, 2000 compliance filing in the above-captioned dockets has not been acted upon by the Commission.

The NEPOOL Participants Committee states that copies of these materials were sent to the NEPOOL Participants and the New England state governors and regulatory commissions.

Comment Date: August 6, 2002.

4. Berkshire Power Company, L.L.C.; Colorado Power Partners; BIV Generation Company, L.L.C.; Capital District Energy Center; Cogeneration Associates; Dartmouth Power Associates; Limited Partnership; Eagle Point Cogeneration Partnership; Cogen Technologies NJ Ventures; Camden Cogen, L.P.; ManChief Power Company, L.L.C.; Milford Power Company, L.L.C.; Mt. Carmel Cogen, L.L.C.; Newark Bay Cogeneration Partnership, L.P.; Pawtucket Power Associates Limited Partnership; Fulton Cogeneration Associates, L.P.; San Joaquin Cogen Limited; Vandolah Power Company, L.L.C.; Cedar Brakes I, L.L.C.; Cedar Brakes II, L.L.C; Utility Contract Funding, L.L.C.; Mohawk River Funding III, L.L.C.; Mohawk River Funding IV, L.L.C.; Power Contract Finance, L.L.C.; (Not Consolidated)

[Docket Nos. ER99-3502-001; ER99-3077-001; ER02-579-001; ER96-149-008; ER01-3055-002; ER02-1486-001; ER01-2756-002; ER02-1831-002; ER99-4102-001; ER02-1324-001; ER00-2887-002; ER02-580-001; ER01-324-002; ER00-1517-002; ER02-1336-001; ER01-2765-001; ER01-3056-003; ER02-137-001; ER01-2799-001; ER00-2885-002; ER02-1485-001; and ER99-3197-001]

Take notice that on July 15, 2002, the subsidiaries of El Paso Corporation that have been granted market-based rates by the Federal Energy Regulatory Commission submitted for filing a triennial market analysis in support of their existing market-based rates authority.

Comment Date: August 5, 2002.

5. New England Power Pool

[Docket No. ER02-2315-000]

Take notice that on July 15, 2002, the New England Power Pool (NEPOOL) Participants Committee submitted the Eighty-Seventh Agreement Amending New England Power Pool Agreement (the Eighty-Seventh Agreement), which proposes changes to (1) the Financial Assurance Policy for NEPOOL Members, which is Attachment L to the NEPOOL Tariff, (2) the Financial Assurance Policy for Non-Participant Transmission Customers, which is Attachment M to the NEPOOL Tariff, and (3) the New England Power Pool Billing Policy, which is Attachment N to the NEPOOL Tariff (collectively, the “Policies”). The Eighty-Seventh Agreement proposes changes to the Policies to account for the implementation of the FTR Markets in NEPOOL and the presence of Non-Participant FTR Customers transacting in those markets and to clarify certain provisions of the Policies.

A September 16, 2002 effective date was requested. The NEPOOL Participants Committee states that copies of these materials were sent to the NEPOOL Participants, Non-Participant Transmission Customers and the New England state governors and regulatory commissions.

Comment Date: August 5, 2002.

6. New York Independent System Operator, Inc.

[Docket No. ER02-2318-000]

Take notice that on July 12, 2002, the New York Independent System Operator, Inc. (NYISO) hereby respectfully requests that the Federal Energy Regulatory Commission (Commission) grant it permission to waive: (I) performance charges applicable to certain categories of Generators that were previously deferred on an interim basis by the NYISO; and (ii) performance charges applicable to suppliers of Regulation and Frequency Response Service (Regulation) that could not be accurately or fairly assessed.

Comment Date: August 2, 2002.

7. Idaho Power Company

[Docket No. ER02-2319-000]

Take notice that on July 15, 2002 Idaho Power Company filed a Service Agreement for Non-Firm Point-to-Point Transmission Service between Idaho Power Company and FPL Energy Power Marketing, Inc., under its open access transmission tariff in the above-captioned proceeding.

Comment Date: August 5, 2002.

8. Idaho Power Company

[Docket No. ER02-2320-000]

Take notice that on July 15, 2002, Idaho Power Company filed a Service Agreement for Firm Point-to-Point Transmission Service between Idaho Power Company and FPL Energy Power Marketing, Inc., under it open access transmission tariff in the above-captioned proceeding.

Comment Date: August 5, 2002.

9. California Independent System Operator Corporation

[Docket No. ER02-2321-000]

Take notice that on July 15, 2002, the California Independent System Operator Corporation (ISO) tendered for filing Amendment No. 46. The purpose of the amendment is to modify the provisions of the ISO Tariff concerning Metered Subsystems. The ISO also filed the Northern California Power Agency Metered Subsystem Aggregator Agreement; the City of Roseville Metered Subsystem Agreement; and the Silicon Valley Power Metered Subsystem Agreement. This filing is in accordance with an Offer of Settlement being filed in Docket Nos. ER01-2998-000, ER02-358-000, and EL02-64-000.

The ISO requests the amendment and the agreements be made effective on September 1, 2002. The ISO states that this filing has been served on the California Public Utilities Commission, all California ISO Scheduling Coordinators.

Comment Date: August 5, 2002.

10. New England Power Pool and ISO New England Inc.

[Docket No. ER02-2330-000]

Take notice that on July 15, 2002, the New England Power Pool (NEPOOL) Participants Committee, joined by ISO New England Inc., submitted Market Rule 1and related materials for filing at the Commission. Market Rule 1 contains comprehensive changes to the NEPOOL arrangements to adopt for New England a revised wholesale market design, commonly referred to in New England as the “standard market design”, for the implementation of locational marginal pricing and a multi-settlement system. The NEPOOL Participants Committee and ISO New England request that the Commission accept Market Rule 1 to become effective on September 15, 2002.

The NEPOOL Participants Committee states that copies of these materials were sent to the NEPOOL Participants, Non-Participant Transmission Customers and the New England state governors and regulatory commissions.

Comment Date: August 5, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link,select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-18784 Filed 7-24-02; 8:45 am]

BILLING CODE 6717-01-P